DEPARTMENT OF TRANSPORTATION

Federal Aviation Administration

14 CFR Part 71

[Docket No. FAA-2021-1030; Airspace Docket No. 21-ASW-10]

RIN 2120-AA66

Amendment of VOR Federal Airways V-47, V-54, V-69, V-94, V-140, V-278, V-305, and Revocation of V-397; Southeastern United States

AGENCY: Federal Aviation Administration (FAA), DOT.

ACTION: Notice of proposed rulemaking (NPRM).

SUMMARY: This action proposes to modify VHF Omnidirectional Range (VOR) Federal airways V-47, V-54, V-69, V-94, V-140, V-278, V-305, and remove V-397, in association with the Graceland VOR Minimum Operational Network (MON) project in the southeastern United States. This action is necessary due to the planned decommissioning of the following ground-based navigation aids: Dyersburg, TN, (DYR) VOR Tactical Air Navigation (VORTAC); Malden, MO, (MAW) VORTAC; Monticello, AR, (MON) VOR/DME; and the Muscle Shoals, AL, (MSL) VORTAC.

DATES: Comments must be received on or before January 27, 2022.

ADDRESSES: Send comments on this proposal to the U.S. Department of Transportation, Docket Operations, 1200 New Jersey Avenue SE, West Building Ground Floor, Room W12-140, Washington, DC 20590; telephone: 1 (800) 647-5527 or (202) 366-9826. You must identify FAA Docket No. FAA-2021-1030; Airspace Docket No. 21-ASW-10 at the beginning of your comments. You may also submit comments through the internet at https://www.regulations.gov. FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-1030; Airspace Docket No. 21-ASW-10) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-1030; Airspace Docket No. 21-ASW-10.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at https://www.regulations.gov. Recently published rulemaking documents can also be accessed through the FAA's web page at https://www.faa.gov/air_traffic/publications/airspace_amendments/. You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order JO 7400.11F, Airspace Designations and Reporting Points, dated August 10, 2021 and effective September 15, 2021. FAA Order 7400.11F is publicly available as listed in the ADDRESSES section of this proposed rule. FAA Order JO 7400.11F lists Class A, B, C, D, and E airspace areas, air traffic service routes, and reporting points.

The Proposal

The FAA is proposing an amendment to 14 CFR part 71 to amend VOR Federal airways V-47, V-54, V-69, V-94, V-140, V-278, V-305, and remove V-397, in support of the FAA's VOR MON program. The proposed route changes are described below.

V-47: V-47 currently consists of two separate parts: From Pine Bluff, AR, to Pocket City, IN; and From Cincinnati, KY, to Flag City, OH. The FAA proposes to remove the segments from Pine Bluff, AR, to Dyersburg, TN. Therefore, the first part of V-47 would extend from Cunningham, KY, to Pocket City, IN. The second part of the route would extend from Cincinnati, KY to Flag City, OH, as currently charted.

V-54: V-54 currently consists of two separate parts: From Waco, TX, to Cedar Creek, TX; and From Texarkana, AR, to Kinston, NC. The FAA proposes to remove the segments from Marvell, AR, to Charlotte, NC. This would configure V-54 into three parts: From Waco, TX, to Cedar Creek, TX; From Texarkana, AR, to Little Rock, AR; and From Sandhills, NC, to Kinston, NC.

V-69: V-69 currently extends from El Dorado, AR, to Joliet, IL. The FAA proposes to remove the segments from El Dorado, AR, to Walnut Ridge, AR. As amended, V-69 would extend from Farmington, MO to Joliet, IL.

V-94: V-94 currently consists of two parts: From Blythe, CA, to Tuscola, TX; and From Cedar Creek, TX, to Holly Springs, MS. The FAA is proposing to remove the final segment from Greenville, MS, to Holly Springs, MS. As amended, V-94 would extend from Blythe, CA, to Tuscola, TX; and from Cedar Creek, TX to Greenville, MS.

V-140: V-140 currently consists of two parts: From Panhandle, TX, to London, KY; and from Bluefield, WV, to Casanova, VA. The FAA proposes to remove the Walnut Ridge, AR, Dyersburg, TN, and Hazard, KY, navigation aids from V-140. As a result, V-140 would consist of the following three parts: From Panhandle, TX, to Harrison, AR; From Nashville, TN, to London, KY; and From Bluefield, WV, to Casanova, VA. Other changes to V-140 are being proposed in a separate docket action.

V-278: V-278 currently consists of two parts: From Texico, NM, to Plainview, TX; and from Bowie, TX, to Vulcan, AL. The FAA proposes to remove the segments from Monticello, AR, to Vulcan, AL. The first part of V-278 would remain unchanged. The second part of the route would be amended as follows: From Bowie, TX; Bonham, TX; Paris, TX; Texarkana, AR; to INT Texarkana 088°(T)/081°(M) and Eldorado, AR 034°(T)/027°(M) radials. Note: When new radials are proposed in an NPRM both True (T) and Magnetic (M) degrees are stated. Only True degrees will be stated in the final rule.

V-305: V-305 currently extends from El Dorado, AR, to Kokomo, IN. The FAA proposes to remove Walnut Ridge, AR, and Malden, MO, from the route. This would split V-305 into two separate parts as follows: From Eldorado, AR, to Little Rock, AR; and From Cunningham, KY, to Kokomo, IN. Other changes to V-305 are being proposed in a separate docket action.

V-397: V-397 currently extends from Monroe, LA, to Marvell, AR. The FAA proposes to remove the entire route.

Full route descriptions of the above routes are listed in “The Proposed Amendment” section of this NPRM.

Domestic VOR Federal airways are published in paragraph 6010(a) of FAA Order JO 7400.11F, dated August 10, 2021 and effective September 15, 2021, which is incorporated by reference in 14 CFR 71.1. The VOR Federal airways listed in this document would be subsequently published in the FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-47 [Amended]

From Cunningham, KY; to Pocket City, IN. From Cincinnati, KY; Rosewood, OH; to Flag City, OH.

* * * * *

V-54 [Amended]

From Waco, TX; to Cedar Creek, TX. From Texarkana, AR; INT Texarkana 052° and Little Rock, AR, 235° radials; to Little Rock. From Sandhills, NC; INT Sandhills 146° and Fayetteville, NC, 267° radials; Fayetteville; to Kinston, NC.

* * * * *

V-69 [Amended]

From Farmington, MO; Troy, IL; Spinner, IL; Pontiac, IL; to Joliet, IL.

* * * * *

V-94 [Amended]

From Blythe, CA; INT Blythe 094°and Gila Bend, AZ, 299° radials; Gila Bend; Stanfield, AZ; 55 miles, 74 miles, 95 MSL, San Simon, AZ; Deming, NM; Newman, TX; Salt Flat, TX; Wink, TX; Midland, TX; to Tuscola, TX. From Cedar Creek, TX; Gregg County, TX; Elm Grove, LA; Monroe, LA; to Greenville, MS.

* * * * *

V-140 [Amended]

From Panhandle, TX; Burns Flat, OK; Kingfisher, OK; INT Kingfisher 072° and Tulsa, OK, 261° radials; Tulsa; Razorback, AR; to Harrison, AR. From Nashville, TN; Livingston, TN; to London, KY. From Bluefield, WV; INT Bluefield 071° and Montebello, VA, 250° radials; Montebello; to Casanova, VA.

* * * * *

V-278 [Amended]

From Texico, NM; to Plainview, TX. From Bowie, TX; Bonham, TX; Paris, TX; Texarkana, AR; to INT Texarkana 088°T/081°M and El Dorado, AR 034°T 027°M radials.

* * * * *

V-305 [Amended]

From El Dorado, AR; to Little Rock, AR. From Cunningham, KY; Pocket City, IN; INT Pocket City 046° and Hoosier, IN, 205° radials; Hoosier; INT Hoosier 025° and Brickyard, IN, l85° radials; Brickyard; INT Brickyard 038° and Kokomo, IN, 182° radials; to Kokomo.

* * * * *

V-397 [Removed]

* * * * *

Issued in Washington, DC, on December 7, 2021.
Margaret C. Flategraff,
Acting Manager, Rules and Regulations Group.

[FR Doc. 2021-26840 Filed 12-10-21; 8:45 am]

BILLING CODE 4910-13-P